DEPARTMENT OF LABOR

Employment and Training Administration

TA-W-71,374

GMPT Warren Transmission, GM Powertrain Division, a Subsidiary of General Motors Company Including On-Site Leased Workers From Knight Facilities Management, Warren, MI; Amended Certification Regarding Eligibility To Apply for Worker Adjustment Assistance

In accordance with Section 223 of the Trade Act of 1974, as amended (“Act”), 19 U.S.C. 2273, the Department of Labor issued a Certification of Eligibility to Apply for Worker Adjustment Assistance on April 14, 2010, applicable to workers of GMPT Warren Transmission, GM Powertrain Division, a subsidiary of General Motors Company, Warren, Michigan. The Department's notice was published in the Federal Register on May 20, 2010 (75 FR 28300). Workers are engaged in the production of automotive transmissions.

At the request of the United Automobile, Aerospace & Agriculture Implement Workers of America (UAW), Local 909, the Department reviewed the certification.

The company reports that workers leased from Knight Facilities Management were employed on-site at the Warren, Michigan location of the subject firm. The Department has determined that these workers were sufficiently under the control of GMPT Warren Transmission, GM Powertrain Division, a subsidiary of General Motors Company, to be considered leased workers.

Based on these findings, the Department is amending this certification to include workers leased from Knight Facilities Management working on-site at the Warren, Michigan location of GMPT Warren Transmission, GM Powertrain Division, a subsidiary of General Motors Company.

The amended notice applicable to TA-W-71,374 is hereby issued as follows:

All workers of GMPT Warren Transmission, GM Powertrain Division, a subsidiary of General Motors Company, including on-site leased workers from Knight Facilities Management, Warren, Michigan, who became totally or partially separated from employment on or after June 16, 2008, through April 14, 2012, and all workers in the group threatened with total or partial separation from employment on the date of certification through two years from the date of certification, are eligible to apply for adjustment assistance under Chapter 2 of Title II of the Trade Act of 1974, as amended.

Signed at Washington, DC, this 14th day of December 2010.
Del Min Amy Chen,
Certifying Officer, Office of Trade Adjustment Assistance.

[FR Doc. 2010-33049 Filed 12-30-10; 8:45 am]

BILLING CODE 4510-FN-P